DEPARTMENT OF HEALTH AND HUMAN SERVICES

Centers for Disease Control and Prevention

[60-Day-19-19ACC; Docket No. CDC-2019-0020]

Proposed Data Collection Submitted for Public Comment and Recommendations

AGENCY: Centers for Disease Control and Prevention (CDC), Department of Health and Human Services (HHS).

ACTION: Notice with comment period.

SUMMARY: The Centers for Disease Control and Prevention (CDC), as part of its continuing effort to reduce public burden and maximize the utility of government information, invites the general public and other Federal agencies the opportunity to comment on a proposed and/or continuing information collection, as required by the Paperwork Reduction Act of 1995. This notice invites comment on a proposed information collection project titled Survey of Engineered Nanomaterial Occupational Safety and Health Practices. The goal of this project is to assess the relevance and impact of NIOSH's contribution to guidelines and risk mitigation practices for safe handling of engineered nanomaterials in the workplace.

DATES: CDC must receive written comments on or before June 24, 2019.

ADDRESSES: You may submit comments, identified by Docket No. CDC-2019-0020 by any of the following methods:

• Federal eRulemaking Portal: Regulations.gov. Follow the instructions for submitting comments.

• Mail: Jeffrey M. Zirger, Information Collection Review Office, Centers for Disease Control and Prevention, 1600 Clifton Road NE, MS-D74, Atlanta, Georgia 30329.

Instructions: All submissions received must include the agency name and Docket Number. CDC will post, without change, all relevant comments to Regulations.gov.

Please note: Submit all comments through the Federal eRulemaking portal (regulations.gov) or by U.S. mail to the address listed above.

FOR FURTHER INFORMATION CONTACT: To request more information on the proposed project or to obtain a copy of the information collection plan and instruments, contact Jeffrey M. Zirger, Information Collection Review Office, Centers for Disease Control and Prevention, 1600 Clifton Road NE, MS-D74, Atlanta, Georgia 30329; phone: 404-639-7570; Email: omb@cdc.gov.

SUPPLEMENTARY INFORMATION: Under the Paperwork Reduction Act of 1995 (PRA) (44 U.S.C. 3501-3520), Federal agencies must obtain approval from the Office of Management and Budget (OMB) for each collection of information they conduct or sponsor. In addition, the PRA also requires Federal agencies to provide a 60-day notice in the Federal Register concerning each proposed collection of information, including each new proposed collection, each proposed extension of existing collection of information, and each reinstatement of previously approved information collection before submitting the collection to the OMB for approval. To comply with this requirement, we are publishing this notice of a proposed data collection as described below.

The OMB is particularly interested in comments that will help:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected; and

4. Minimize the burden of the collection of information on those who are to respond, including through the use of appropriate automated, electronic, mechanical, or other technological collection techniques or other forms of information technology, e.g., permitting electronic submissions of responses.

5. Assess information collection costs.

Proposed Project

Survey of Engineered Nanomaterial Occupational Safety and Health Practices—New—National Institute for Occupational Safety and Health (NIOSH), Centers for Disease Control and Prevention (CDC).

Background and Brief Description

As mandated in the Occupational Safety and Health Act of 1970 (Pub. L. 91-596), the mission of the National Institute for Occupational Safety and Health (NIOSH) is to conduct research and investigations on work-related disease and injury and to disseminate information for preventing identified workplace hazards (Sections 20(a)(1) and (d), Attachment 1). This dual responsibility recognizes the need to translate research into workplace application if it is to impact worker safety and well-being. The goal of this project is to assess the relevance and impact of NIOSH's contribution to guidelines and risk mitigation practices for safe handling of engineered nanomaterials in the workplace. The intended use of this data is to inform NIOSH's research agenda to enhance its relevance and impact on worker safety and health in the context of engineered nanomaterials. NIOSH is in the process of procuring a contractor to perform the work, and is on schedule to award a contract by summer 2019. NIOSH requests a two year OMB clearance.

The research under this project will survey companies who manufacture, distribute, fabricate, formulate, use or provide services related to engineered nanomaterials. The analysis will describe the survey sample, response rates, and types of company by industry and size. Further analysis will focus on identifying the types of engineered nanomaterials being used in industry and the types of occupational safety and health practices being implemented. The analysis will be used to develop a final report which evaluates the influence of NIOSH products, services, and outputs on industry occupational safety and health practices.

Under this project, the following activities and data collections will be conducted:

(1) Company Pre-calls. Sampled companies will be contacted to identify the person who will complete the survey and to ascertain whether or not the company handles engineered nanomaterials.

(2) Survey. A web-based questionnaire, with a mail option, will be administered to companies. The purpose of the survey is to learn directly from companies about their use of NIOSH materials and their occupational safety and health practices concerning engineered nanomaterials.

A sample of 600 companies will be compiled from lists of industry associations, research reports, marketing databases, and web-based searches. Of the 600 selected companies we anticipate that 500 will complete the survey. The company pre-call is expected to require 5 minutes to complete. The survey is expected to require 20 minutes to complete; including the time it may take respondents to look-up and retrieve needed information. The estimated annualized burden hours for the respondents' time to participate in this information collection is 109 hours. There are no costs to the responders other than their time.

Estimated Annualized Burden Hours
Type of respondents | Form name | Number of respondents | Number of responses per respondent | Average burden per response (in hours) | Total burden (in hours)
Receptionist | Pre-call | 300 | 1 | 5/60 | 25
Occupational Health and Safety Specialist | Survey | 100 | 1 | 20/60 | 34
Industrial Production Managers | Survey | 75 | 1 | 20/60 | 25
Natural Science Managers | Survey | 75 | 1 | 20/60 | 25
Total |  |  |  |  | 109

Jeffrey M. Zirger,
Lead, Information Collection Review Office, Office of Scientific Integrity, Office of Science, Centers for Disease Control and Prevention.

[FR Doc. 2019-08149 Filed 4-22-19; 8:45 am]

BILLING CODE 4163-18-P